DEPARTMENT OF ENERGY

Office of Counterintelligence

10 CFR Part 709

[Docket No. CN-03-RM-01]

RIN 1992-AA33

Polygraph Examination Regulations; Correction

AGENCY: Department of Energy.

ACTION: Notice of proposed rulemaking and opportunity for public comment; correction.

SUMMARY: This document corrects the preamble to a proposed rulemaking published in the Federal Register of April 14, 2003, regarding Polygraph Examination Regulations. This correction revises the web address where you may access this notice of proposed rulemaking and other supporting documentation.

FOR FURTHER INFORMATION CONTACT: Douglas Hinckley, U.S. Department of Energy, Office of Counterintelligence, CN-1, 1000 Independence Avenue, SW., Washington, DC 20585, (202) 586-5901; or Lise Howe, U.S. Department of Energy, Office of General Counsel, GC-73, 1000 Independence Avenue, SW., Washington, DC 20585, (202) 586-2906.

Correction

In proposed rule FR Doc. 03-9009, appearing on page 17886, in the issue of Monday, April 14, 2003, the following correction should be made:

In the ADDRESSES section, the last sentence is corrected to the following: This notice of proposed rulemaking and supporting documentation is available on DOE's Internet Home Page at the following address: www.so.doe.gov.

Issued in Washington, DC on April 14, 2003.
Stephen W. Dillard,
Director, Office of Counterintelligence.

[FR Doc. 03-9631 Filed 4-17-03; 8:45 am]

BILLING CODE 6450-01-P